DEPARTMENT OF HOMELAND SECURITY

Coast Guard

33 CFR Part 117

[Docket No. USCG-2015-0947]

Drawbridge Operation Regulation; Snohomish River, Marysville, WA

AGENCY: Coast Guard, DHS.

ACTION: Notice of temporary deviation from regulations.

SUMMARY: The Coast Guard has issued a temporary deviation from the operating schedule that governs the Burlington Northern Santa Fe Railroad Company (BNSF) Bridge 37.0 across the Snohomish River, mile 3.5 at Marysville, WA. The deviation is necessary to accommodate scheduled bridge rail joint maintenance and replacement. The deviation allows the bridges to remain in the closed-to-navigation position during the maintenance to allow safe movement of work crews.

DATES: This deviation is effective from November 1, 2015 through November 15, 2015.

ADDRESSES: The docket for this deviation, [USCG-2015-0947] is available at http://www.regulations.gov. Type the docket number in the “SEARCH” box and click “SEARCH.” Click on Open Docket Folder on the line associated with this deviation.

FOR FURTHER INFORMATION CONTACT: If you have questions on this temporary deviation, call or email the Bridge Administrator, Coast Guard Thirteenth District; telephone 206-220-7234 email d13-pf-d13bridges@uscg.mil.

SUPPLEMENTARY INFORMATION: BNSF has requested a temporary deviation from the operating schedule for the BNSF RR Bridge 37.0, mile 3.5, crossing Snohomish River, at Marysville, WA. BNSF requested the BNSF RR Bridge 37.0 remain in the closed-to-navigation position for rail maintenance. This maintenance has been scheduled, and is funded as part of the Cascade Corridor Improvement Project.

The normal operating schedule for this bridge operates in accordance with 33 CFR 117.5 which states it must open promptly on signal at any time, and requires constant attendance by with a drawtender. BNSF RR Bridge 37.0 provides 10 feet of vertical clearance in the closed-to-navigation position.

This deviation allows the BNSF RR Bridge 37.0, at mile 3.5 crossing Snohomish River, to remain in the closed-to-navigation position, and need not open for maritime traffic from 10 a.m. until 4 p.m. from November 1, 2015 through November 15, 2015; except, the bridge will remain in the closed-to-navigation position from 8 a.m. until Midnight on November 10, 2015 and from 8 a.m. until Midnight on November 12, 2015. The bridge shall operate in accordance to 33 CFR part 117, subpart A at all other times.

Vessels able to pass through the bridge in the closed-to-navigation position may do so at anytime. The bridge will be required to open, if needed, for vessels engaged in emergency response operations during this closure period, but any time lost to emergency openings will necessitate a time extension added to the approved dates. Waterway usage on this part of the Snohomish River includes tug and barge to small pleasure craft. No immediate alternate route for vessels to pass is available on this part of the river. The Coast Guard will also inform the users of the waterways through our Local and Broadcast Notices to Mariners of the change in operating schedule for the bridge so that vessels can arrange their transits to minimize any impact caused by the temporary deviation.

In accordance with 33 CFR 117.35(e), the drawbridges must return to their regular operating schedule immediately at the end of the effective period of this temporary deviation. This deviation from the operating regulations is authorized under 33 CFR 117.35.

Dated: October 19, 2015.
Steven M. Fischer,
Bridge Administrator, Thirteenth Coast Guard District.

[FR Doc. 2015-26922 Filed 10-22-15; 8:45 am]

BILLING CODE 9110-04-P